DEPARTMENT OF THE INTERIOR

Bureau of Land Management

[NV-030-1430-ES; NVN 75639]

Notice of Realty Action; Recreation and Public Purposes Act Classification; Washoe County, NV

AGENCY: Bureau of Land Management, Interior.

ACTION: Notice of Realty Action.

SUMMARY: The Bureau of Land Management (BLM) has examined and found suitable for classification for lease or conveyance to Washoe County, Nevada under the authority of the Recreation and Public Purposes Act (R&PP), as amended, approximately 110 acres of land in Washoe County, Nevada. Washoe County proposes to use the land for a public archery range.

DATES: For a period of 45 days from the date of publication of this notice in the Federal Register, interested parties may submit comments.

ADDRESSES: Mail written comments to the Field Manager, Carson City Field Office, Bureau of Land Management, 5665 Morgan Mill Road, Carson City, NV 89701.

FOR FURTHER INFORMATION CONTACT: Charles J. Kihm, Realty Specialist, BLM Carson City Field Office, (702) 885-6000.

SUPPLEMENTARY INFORMATION: The following described public land in Washoe County, Nevada has been examined and found suitable for classification for lease or conveyance under the provisions of the R&PP Act, as amended (43 U.S.C. 869 et seq.) and is hereby classified accordingly:

Mt. Diablo Meridian, Nevada

T. 21 N., R. 19 E.,

Sec. 2, SW¼NE¼SW¼, S½NW¼SW¼, SW¼SW¼, and W½SE¼SW¼;

Sec. 11, N½NW¼NW¼.

Containing 110.00 acres, more or less.

The land is not needed for Federal purposes. Lease or conveyance is consistent with the Carson City Consolidated Resource Management Plan (2001) and would be in the public interest. The Carson City Field Office has received from Washoe County a R&PP Act application, together with the requisite filing fee and supporting documents required by 43 CFR 2741.5. The application states that the County plans to construct and operate a public archery range on the land. No other use will be made of the land.

The lease/patent, when issued, will be subject to the following terms, conditions and reservations:

1. Provisions of the R&PP Act and to all applicable regulations of the Secretary of the Interior.

2. A right-of-way thereon for ditches and canals constructed by the authority of the United States, Act of August 30, 1890 (43 U.S.C. 945).

3. All mineral deposits in the land leased or patented, and to it, or persons authorized by it, the right to prospect for, mine and remove such deposits from the same under applicable law and regulations to be established by the Secretary of the Interior.

4. A reservation to the United States for range project fence 0113 constructed under the provisions of the Act of June 28, 1934, as amended (43 U.S.C. 315, 315a-r).

These lands were previously withdrawn from surface entry and mining, but not from sales, exchanges or recreation and public purposes, by Public Land Order No. 7496. A previous classification for Recreation and Public Purposes under case file number N39895, as it affects the described land, is no longer appropriate and is hereby terminated.

On July 19, 2006, the land described above will be segregated from all other forms of appropriation under the public land laws, including the general mining laws, except for lease/conveyance under the R&PP Act, leasing under the mineral leasing laws, and disposals under the mineral material laws.

Detailed information concerning the proposed lease/conveyance, including conditions, planning and environmental documents, is available for inspection at the BLM Carson City Field Office at the address stated above in this notice.

Classification Comments: You may submit comments regarding the proposed classification of the land to the Carson City Field Office, for a period of 45 day following publication of this notice in the Federal Register. Comments on the classification are restricted to four subjects:

(1) Whether the land is physically suited for the proposal;

(2) Whether the use will maximize the future uses of the land;

(3) Whether the use is consistent with local planning and zoning; and

(4) If the use is consistent with State and Federal programs.

Application Comments: You may submit comments regarding the specific use proposed in the application and plan of development, whether the BLM followed proper administrative procedures in reaching the decision, or any other factor not directly related to the suitability of the land for the requested R&PP use.

Any adverse comments will be reviewed by the State Director. In the absence of any adverse comments, the classification of the land described in this notice will become effective 60 days from the date of publication of this notice in the Federal Register. The lands will not be offered for lease/conveyance until after the classification becomes effective.

(Authority: 43 CFR 2741.5)

Dated: May 11, 2006.
Donald T. Hicks,
Manager, Carson City Field Office.

[FR Doc. E6-11461 Filed 7-18-06; 8:45 am]

BILLING CODE 4310-HC-P